DEPARTMENT OF DEFENSE

Department of the Army

Arlington National Cemetery, Withdrawal of Notice of Intent To Prepare an Environmental Impact Statement Regarding Removal of the Confederate Memorial

AGENCY: Department of the Army, DoD.

ACTION: Notice of intent; withdrawal.

SUMMARY: The Department of the Army is announcing withdrawal of its Notice of Intent (NOI) to prepare an Environmental Impact Statement (EIS). The August 4, 2023, notice announced the Army's intention to prepare an EIS under the National Environmental Policy Act (NEPA). The EIS would have addressed potential environmental effects associated with the congressionally-mandated removal of the Confederate Memorial from Arlington National Cemetery (ANC). The Army determined the congressionally-mandated removal action is a non-discretionary action. There would be no reasonably foreseeable significant impacts from any discretionary elements of the proposed action. An EIS is therefore not needed to inform any decision-making for this action. The Army will prepare an Environmental Assessment (EA) to analyze and disclose any effects of the discretionary elements of the proposed action, including how to disassemble the Confederate Memorial.

FOR FURTHER INFORMATION CONTACT: Ms. Renea Yates, Director, Office of Army Cemeteries, 1 Memorial Avenue, Arlington, VA 22211; email: anc-commemorative-works@army.mil (Note: This email is for administrative inquiries only. Any comments regarding the proposed action should not be sent to this email address, but should instead be submitted via comment form located at: https://www.arlingtoncemetery.mil/About/Confederate-Memorial-Removal.); (877) 907-8585.

SUPPLEMENTARY INFORMATION: The NOI was published in the Federal Register on August 4, 2023 (88 FR 149).

Congress directed the establishment of the Commission on the Naming of Items of the DoD that Commemorate the Confederate States of America or Any Person Who Served Voluntarily with the Confederate States of America (the Naming Commission) in section 370 of the William M. (Mac) Thornberry National Defense Authorization Act for Fiscal Year 2021 (FY21 NDAA). Regarding the Confederate Memorial, the Naming Commission recommended the following:

—“The statue atop . . . the monument should be removed. All bronze elements on the monument should be deconstructed, and removed, preferably leaving the granite base and foundation in place to minimize risk of inadvertent disturbance of graves.”

—“The work should be planned and coordinated with the Commission of Fine Arts and the Historical Review Commission to determine the best way to proceed with removal of the monument.”

—“The Department of [the] Army should consider the most cost-effective method of removal and disposal of the monument's elements in their planning.”

The FY21 NDAA, section 370(a), requires that “[n]ot later than [January 1, 2024], the Secretary of Defense shall implement the plan submitted by [the Naming Commission] and remove all names, symbols, displays, monuments, and paraphernalia that honor or commemorate the Confederate States of America . . . or any person who served voluntarily with the Confederate States of America from all assets of the Department of Defense.”

The purpose of the proposed action is to remove from ANC a monument that commemorates the Confederate States of America. The need for the proposed action is to comply with non-discretionary congressional direction.

The public scoping process did not reveal evidence of any reasonably foreseeable significant impacts resulting from discretionary actions. Overwhelmingly, public comments during the scoping process focused on the non-discretionary action of removing the Confederate Memorial from ANC. Because removal of the Confederate Memorial from ANC is legally required and non-discretionary, the question of whether to remove the monument is not subject to analysis under NEPA. The Army does not have the authority to take environmental factors into consideration in determining whether to remove the monument.

The Army will prepare an EA to analyze discretionary actions (i.e., how to disassemble and remove the Confederate Memorial's bronze elements). The EA and Draft Finding of No Significant Impact (Draft FONSI) will be published locally and not in the Federal Register. The EA and Draft FONSI will also be available online at: https://www.arlingtoncemetery.mil/About/Confederate-Memorial-Removal.

James W. Satterwhite Jr.,
U.S. Army Federal Register Liaison Officer.

[FR Doc. 2023-24302 Filed 11-2-23; 8:45 am]

BILLING CODE 3711-02-P